ENVIRONMENTAL PROTECTION AGENCY

40 CFR Parts 52 and 81

[CO-001-0037a; FRL-6706-5]

Approval and Promulgation of Air Quality Implementation Plans; Colorado; Designation of Areas for Air Quality Planning Purposes, Canon City

AGENCY: Environmental Protection Agency (EPA).

ACTION: Direct final rule.

SUMMARY: On September 22, 1997, the Governor of the State of Colorado submitted a State Implementation Plan (SIP) revision for the purpose of establishing a redesignation for the Canon City, Colorado area from nonattainment to attainment for particulate matter with an aerodynamic diameter less than or equal to a nominal 10 microns (PM10) under the 1987 standards. The Colorado Air Pollution Control Division's (Colorado) submittal, among other things, documents that the Canon City area has attained the PM10 national ambient air quality standards (NAAQS), requests redesignation to attainment and includes a maintenance plan for the area demonstrating maintenance of the PM10 NAAQS for ten years. EPA is approving the redesignation request and maintenance plan because the State has met the applicable requirements of the Clean Air Act, as amended. Subsequent to this approval, the Canon City area will be designated attainment for the PM10 NAAQS. This action is being taken under sections 107, 110, and 175A of the Clean Air Act (Act).

DATES: This rule is effective on July 31, 2000, without further notice, unless EPA receives adverse comment by June 29, 2000. If adverse comment is received, EPA will publish a timely withdrawal of the direct final rule in the Federal Register informing the public that the rule will not take effect.

ADDRESSES: Written comments may be mailed to Richard R. Long, Director, Air and Radiation Program, Mailcode 8P-AR, Environmental Protection Agency (EPA), Region VIII, 999 18th Street, Suite 500, Denver, Colorado, 80202. Copies of the documents relevant to this action are available for public inspection during normal business hours at the Air and Radiation Program, Environmental Protection Agency, Region VIII, 999 18th Street, Suite 500, Denver, Colorado, 80202. Copies of the state documents relevant to this action are available for public inspection at the Colorado Department of Public Health and Environment.

FOR FURTHER INFORMATION CONTACT: Cindy Rosenberg, EPA, Region VIII, (303) 312-6436.

SUPPLEMENTARY INFORMATION: Throughout this document, wherever “we,” “us,” or “our” are used, we mean the Environmental Protection Agency (EPA).

Table of Contents

I. EPA's Final Action

What Action is EPA Taking in This Direct Final Rule?

II. Summary of Redesignation Request and Maintenance Plan

A. What Requirements Must Be Followed for Redesignations to Attainment?

B. Does the Canon City Redesignation Request and Maintenance Plan Meet the CAA Requirements?

C. Have the Transportation Conformity Requirements Been Met?

D. Did Colorado Follow the Proper Procedures for Adopting This Action?

III. Background

IV. Administrative Requirements

I. EPA's Final Action

What Action Is EPA Taking in This Direct Final Rule?

We are approving the Governor's submittal of September 22, 1997, that requests a redesignation for the Canon City nonattainment area to attainment for the 1987 PM10 standards. We are also approving the maintenance plan for the Canon City PM10 nonattainment area, which was submitted with the State's September 22, 1997 redesignation request. We are approving this request and maintenance plan because Colorado has adequately addressed all of the requirements of the Act for redesignation to attainment applicable to the Canon City PM10 nonattainment area. Upon the effective date of this action, the Canon City area's designation status under 40 CFR part 81 will be revised to attainment.

We are publishing this rule without prior proposal because we view this as a noncontroversial amendment and anticipate no adverse comments. However, in the “Proposed Rules” section of today's Federal Register publication, we are publishing a separate document that will serve as the proposal to approve the SIP revision should adverse comments be filed. This rule will be effective July 31, 2000, without further notice unless the Agency receives adverse comments by June 29, 2000.

If we receive such comments, then we will publish a timely withdrawal of the direct final rule informing the public that the rule will not take effect. All public comments received will then be addressed in a subsequent final rule based on the proposed rule. We will not institute a second comment period on this rule. Any parties interested in commenting on this rule should do so at this time. If no such comments are received, the public is advised that this rule will be effective on July 31, 2000, and no further action will be taken on the proposed rule.

II. Summary of Redesignation Request and Maintenance Plan

A. What Requirements Must Be Followed for Redesignations to Attainment?

In order for a nonattainment area to be redesignated to attainment, the following conditions in section 107(d)(3)(E) of the Act must be met:

(i) We must determine that the area has attained the NAAQS;

(ii) The applicable implementation plan for the area must be fully approved under section 110(k) of the Act;

(iii) We must determine that the improvement in air quality is due to permanent and enforceable reductions in emissions resulting from implementation of the applicable implementation plan and applicable Federal air pollutant control regulations and other permanent and enforceable reductions;

(iv) We must fully approve a maintenance plan for the area as meeting the requirements of CAA section 175A; and,

(v) The State containing such area must meet all requirements applicable to the area under section 110 and part D of the CAA.

Our September 4, 1992 guidance entitled “Procedures for Processing Requests to Redesignate Areas to Attainment” outlines how to assess the adequacy of redesignation requests against the conditions listed above.

On September 22, 1997, the Governor of Colorado submitted a revision to the SIP for the Canon City area and a request that we redesignate the area to attainment for PM10. The following is a brief discussion of how Colorado's redesignation request and maintenance plan meets the requirements of the Act for redesignation of the Canon City area to attainment for PM10.

B. Does the Canon City Redesignation Request and Maintenance Plan Meet the CAA Requirements?

i. Attainment of the PM10 NAAQS

A State must demonstrate that an area has attained the PM10 NAAQS through submittal of ambient air quality data from an ambient air monitoring network representing maximum PM10 concentrations. The data, which must be quality assured and recorded in the Aerometric Information Retrieval System (AIRS), must show that the average annual number of expected exceedances for the area is less than or equal to 1.0, pursuant to 40 CFR 50.6. In making this showing, three consecutive years of complete air quality data must be used.

The State operates one PM10 monitoring site in the Canon City PM10 nonattainment area. Colorado submitted ambient air quality data from the monitoring site which demonstrates that the area has attained the PM10 NAAQS. This air quality data was quality-assured and placed in AIRS. Only one exceedance of the 24-hour PM10 NAAQS was measured which occurred in 1988. Since that time, no exceedances of the 24-hour or the annual PM10 NAAQS have been measured. Officially, the State relied on the years 1993—1995 to show that the Canon City area had attained the PM10 NAAQS. The area has continued to attain the PM10 NAAQS since 1995. We believe that Colorado has adequately demonstrated, through ambient air quality data, that the PM10 NAAQS has been attained in the Canon City area.

ii. State Implementation Plan Approval

Those States containing initial moderate PM10 nonattainment areas were required to submit a SIP by November 15, 1991 which demonstrated attainment of the PM10 NAAQS by December 31, 1994. To approve a redesignation request, the SIP for the area must be fully approved under section 110(k) and must satisfy all requirements that apply to that area. We approved the PM10 SIP for Canon City on December 23, 1993 (58 FR 68036) as meeting those moderate PM10 nonattainment plan requirements that were due to EPA on November 15, 1991.

iii. Improvement in Air Quality Due to Permanent and Enforceable Measures

The State must be able to reasonably attribute the improvement in air quality to emission reductions which are permanent and enforceable. However, Canon City is a unique case in which no area-specific PM10 control measures were needed to bring the area into attainment (or to ensure continued attainment), even when growth in emissions through 1997 was considered, because the monitored ambient PM10 concentrations were (and still are) so far below the NAAQS. Colorado's September 22, 1997 submittal did cite several State-wide regulations, including SIP-approved regulations for particulates (Regulation No. 1), new source review permitting (Regulation No. 3), and residential wood burning (Regulation No. 4), as being responsible for the improvement in air quality in Canon City. Thus, we believe the Canon City area satisfies this requirement.

iv. Fully Approved Maintenance Plan Under Section 175A of the Act

Section 107(d)(3)(E) of the Act requires that, for a nonattainment area to be redesignated to attainment, we must fully approve a maintenance plan which meets the requirements of section 175A of the Act. The plan must demonstrate continued attainment of the relevant NAAQS in the area for at least 10 years after our approval of the redesignation. Eight years after our approval of a redesignation, the State must submit a revised maintenance plan demonstrating attainment for the 10 years following the initial 10 year period. The maintenance plan must also contain a contingency plan to ensure prompt correction of any violation of the NAAQS. (See sections 175A(b) and (d).) Our September 4, 1992 guidance outlines 5 core elements that are necessary to ensure maintenance of the relevant NAAQS in an area seeking redesignation from nonattainment to attainment. Those elements, as well as guidelines for subsequent maintenance plan revisions, are as follows:

a. Attainment Inventory. The maintenance plan should include an attainment emission inventory to identify the level of emissions in the area which is sufficient to attain the NAAQS. An emissions inventory was developed and submitted with the moderate PM10 nonattainment plan for the Canon City area on April 9, 1992. As detailed in the TSD for EPA's December 23, 1993 approval of the moderate PM10 nonattainment plan for Canon City, the plan contained a comprehensive emissions inventory for mobile source emissions (including re-entrained road dust), residential wood and coal combustion emissions, and stationary source emissions for wintertime emissions in the base year of 1990. The Canon City area was in attainment of the PM10 NAAQS in 1990, based on three complete years of data. Thus, we believe Colorado has prepared an adequate attainment inventory for the area.

b. Maintenance Demonstration. A State may generally demonstrate maintenance of the NAAQS by either showing that future emissions of a pollutant or its precursors will not exceed the level of the attainment inventory, or by modeling to show that the future mix of sources and emission rates will not cause a violation of the NAAQS. Colorado chose the modeling approach. The maintenance demonstration for the Canon City area uses emissions rollback, which was the same level of modeling used in the original attainment demonstration for the moderate PM10 SIP for Canon City. The State's rollback approach takes the design day PM10 value for 1989/1990 of 93 μg/m³, subtracts the background concentration, and divides the remainder by the total design day actual emissions for 1989/1990. This ratio is then applied to 2015 projected emissions to calculate the projected concentration without background. The background value is then added back in to give the total 2015 projected concentration of 141 μ/m³. Since this is below the 24-hour PM10 NAAQS of 150 μ/m³, the maintenance plan demonstrates maintenance. Although EPA would normally insist on some interim year projections between 2000 and 2015, EPA has no reason to believe that total emissions will be greater than the 2015 projections in any of the interim years. The State applied simple, environmentally conservative, growth rates to all source categories other than stationary sources, and stationary sources were projected at allowable emissions. Thus, total emissions in all years before 2015 should be less than 2015 total emissions.

Since no violations of the annual PM10 NAAQS have ever occurred in Canon City and since the maintenance demonstration clearly shows maintenance of the 24-hour PM10 NAAQS in Canon City through the year 2015, it is reasonable and adequate to assume that protection of the 24-hour standard will be sufficient to protect the annual standard as well. Thus, EPA believes the State has adequately demonstrated that the Canon City area will maintain the PM10 NAAQS for at least the next ten years.

c. Monitoring Network. Once a nonattainment area has been redesignated to attainment, the State must continue to operate an appropriate air quality monitoring network, in accordance with 40 CFR part 58, to verify the attainment status of the area. The maintenance plan should contain provisions for continued operation of air quality monitors that will provide such verification. Colorado operates one PM10 monitoring site in the Canon City area. We approve this site annually, and any future change would require discussion with us. In its September 22, 1997 submittal, Colorado committed to continue to operate the PM10 monitoring station in Canon City, in accordance with 40 CFR part 58.

d. Verification of Continued Attainment. The State's maintenance plan submittal should indicate how the State will track the progress of the maintenance plan. This is necessary due to the fact that the emissions projections made for the maintenance demonstration depend on assumptions of point and area source growth. Colorado has committed in the Canon City maintenance plan to analyze the three most recent consecutive years of ambient air quality data on an annual basis to verify continued attainment of the PM10 NAAQS in Canon City. In addition, they committed to conduct periodic emission inventory reviews every three years to determine if any adjustments to the assumptions used in the maintenance demonstration need to be made. The first such report will be submitted to us in October 2001 for the year 2000.

e. Contingency Plan. Section 175A(d) of the Act requires that a maintenance plan also include contingency provisions, as necessary, to promptly correct any violation of the NAAQS that occurs after redesignation of the area. For the purposes of section 175A, a State is not required to have fully adopted contingency measures that will take effect without further action by the State in order for the maintenance plan to be approved. However, the contingency plan is an enforceable part of the SIP and should ensure that contingency measures are adopted expeditiously once they are triggered. The plan should discuss the measures to be adopted and a schedule and procedure for adoption and implementation. The State should also identify the specific indicators, or triggers, which will be used to determine when the contingency plan will be implemented.

The Canon City contingency plan will be triggered upon our determination that a PM10 NAAQS violation has occurred in Canon City. The Canon City contingency plan provides that, within one month of our determination that a violation has occurred, Colorado and the Canon City and Fremont County governments and other interested parties will convene a contingency plan subcommittee. The subcommittee will identify the cause(s) of the violation within one month of convening. The subcommittee will then select one of the following potential contingency measures for the area to bring to the Colorado Air Quality Control Commission (AQCC) for adoption: street sweeping requirements, road paving requirements, street sand specifications, woodburning curtailment, use of liquid de-icers, re-establishing nonattainment new source review requirements, or other measures as deemed appropriate. The Canon City contingency plan provides that the contingency measures should become effective within 10 months of our determination that a violation has occurred in the Canon City area. In a letter dated April 24, 2000, from Margie Perkins, Director, Colorado Air Pollution Control Division, to Richard Long, Director, EPA Region VIII Air and Radiation Program, Colorado commits to adopt and implement contingency measures for the Canon City area within one year of a violation of either the 24-hour or annual PM10 standard. EPA relies on this commitment in approving the Canon City contingency plan.

f. Subsequent Maintenance Plan Revisions. In accordance with section 175A(b) of the Act, the State of Colorado is required to submit a revision to the maintenance plan eight years after the redesignation of the Canon City area to attainment for PM10. This revision is to provide for maintenance of the NAAQS for an additional ten years following the first ten year period. The State committed in the Canon City redesignation request to submit a revised maintenance plan in 2006. EPA notes that the State chose 2006 based on an assumption that EPA would approve the redesignation request in 1998. Because EPA is approving the redesignation request in 2000, the State must submit the revised maintenance plan in 2008. See section 175A(b) of the Act.

v. Meeting Applicable Requirements of Section 110 and Part D of the Act

In order for an area to be redesignated to attainment, section 107(d)(3)(E) requires that it must have met all applicable requirements of section 110 and part D of the Act. We interpret this to mean that, for a redesignation request to be approved, the State must have met all requirements that applied to the subject area prior to, or at the time of, submitting a complete redesignation request. In our evaluation of a redesignation request, we don't need to consider other requirements of the CAA that became due after the date of the submission of a complete redesignation request.

a. Section 110 Requirements. Section 110(a)(2) contains general requirements for nonattainment plans. For purposes of redesignation, the Colorado SIP was reviewed to ensure that all applicable requirements under the amended Act were satisfied. These requirements were met with the Colorado's April 9, 1992 submittal for the Canon City PM10 nonattainment area. We approved this submittal on December 23, 1993 (58 FR 68036).

b. Part D Requirements. Before a PM10 nonattainment area may be redesignated to attainment, the State must have fulfilled the applicable requirements of part D. Subpart 1 of part D establishes the general requirements applicable to all nonattainment areas, subpart 4 of part D establishes specific requirements applicable to PM10 nonattainment areas.

The requirements of sections 172(c) and 189(a) regarding attainment of the PM10 NAAQS, and the requirements of section 172(c) regarding reasonable further progress, imposition of RACM, the adoption of contingency measures, and the submission of an emission inventory, have been satisfied through our December 23, 1993 approval of the Canon City PM10 SIP (58 FR 68036), our December 14, 1994 approval of PM10 contingency measures for the area (59 FR 64332), and the demonstration that the area is now attaining the NAAQS.

Although EPA's regulations (see 40 CFR 51.396) require that states adopt transportation conformity provisions in their SIPs for areas designated nonattainment or subject to an EPA-approved maintenance plan, we have decided that a transportation conformity SIP is not an applicable requirement for purposes of evaluating a redesignation request under section 107(d) of the CAA. This decision is reflected in EPA's 1996 approval of the Boston carbon monoxide redesignation. (See 61 FR 2918, January 30, 1996.)

We approved the requirements of the part D new source review permit program for the Canon City area on August 18, 1994 (59 FR 42506). Once the Canon City area is redesignated to attainment, the prevention of significant deterioration (PSD) requirements of part C of the Act will apply. We must ensure that the State has made any needed modifications to its PSD regulations so that Colorado's PSD regulations will apply in the Canon City area after redesignation. Colorado's PSD regulations, which we approved as meeting all applicable Federal requirements, apply to any area designated as unclassifiable or attainment and, thus, will become fully effective in the Canon City area upon redesignation of the area to attainment.

C. Have the Transportation Conformity Requirements Been Met?

Under our transportation conformity regulations, States are to define the mobile vehicle emissions budget to which Federal transportation plans must demonstrate conformity. The emissions budget is defined as the level of mobile source emissions relied upon in the attainment or maintenance demonstration to maintain compliance with the NAAQS.

Colorado had previously adopted mobile source emissions budgets for the years 1994 and 1997 of 4981 lb/day and 5130 lb/day, respectively. In the Canon City maintenance plan, Colorado indicated that it would adopt a new mobile source emissions budget of 7439 lb/day for the year 1997 and beyond. This value is equivalent to the year 2015 projected emissions for mobile sources. EPA believes use of this value as a budget for years before 2015 is acceptable because the available safety margin in years before 2015 is adequate to support such a budget. This is because pre-2015 projected emissions for source categories other than mobile sources are lower than 2015 projected emissions for these other source categories. EPA's approval of 7439 lb/day as the budget means that this value must be used for conformity determinations for all years after 1997, including 2015 (the end of the maintenance period) and beyond. After promulgation of approval of this redesignation request, the State indicated that it would revise its regulation entitled “Ambient Air Standards for the State of Colorado” to include this emissions budget for the years 1997 through 2015.

On March 2, 1999, the United States Court of Appeals for the District of Columbia Circuit issued a decision in Environmental Defense Fund v. the Environmental Protection Agency, No. 97-1637, that we must make an affirmative determination that the submitted motor vehicle emission budgets contained in SIPs are adequate before they are used to determine the conformity of Transportation Improvement Programs or Long Range Transportation Plans. In response to the court decision, we are making most submitted SIP revisions containing a control strategy plan available for public comment and responding to these comments before announcing our adequacy determination. (We do not perform adequacy determinations for SIP revisions that only create new emission budgets for years in which an EPA-approved SIP already establishes a budget, because these new budgets cannot be used for conformity until they are approved by EPA.) We make SIP revisions available for comment by posting notification of their availability on our web site (currently, these notifications are posted at www.epa.gov/oms/transp/conform/adequacy.htm). The adequacy process is discussed in greater detail in a May 14, 1999 memorandum from Gay MacGregor entitled “Conformity Guidance on Implementation of March 2, 1999 Conformity Court Decision,” also available on our web site (www.epa.gov/oms/transp/traqconf.htm).

As noted above, the Canon City maintenance plan was submitted to EPA on September 22, 1997. After the court decision, EPA conducted an adequacy review of all SIP submissions that had been received prior to the decision but not yet acted on. However, EPA did not conduct an adequacy review of the Canon City maintenance plan, because the Colorado AQCC voted on April 15, 1999 to request that the Governor withdraw this plan. The AQCC later rescinded its request that the plan be withdrawn, and EPA reviewed the emission budget in this plan for adequacy using the criteria located at 40 CFR 93.118(e).

This notice also serves as our determination that the emission budget in the maintenance plan of 7439 pounds per day of PM10 is adequate for conformity purposes. As a result of this adequacy finding, the Colorado Department of Transportation and the Federal Highway Administration are required to use this budget in future conformity analyses, even if EPA withdraws this direct final rule. This adequacy determination will be in effect as of the publication date of this direct final rule, and will remain in effect unless and until EPA disapproves the maintenance plan. EPA will not be publishing a separate notice in the Federal Register documenting this adequacy determination.

Notice of the availability of this SIP was posted on our adequacy web site on January 26, 2000, and a 30-day comment period for adequacy was provided following the procedures described in the May 14, 1999 Gay MacGregor memorandum referenced above. No comments were received. Interested parties can still comment on the Canon City mobile source emissions budget in response to the Notice of Proposed Rulemaking that accompanies this Federal Register document. If EPA receives adverse comments with respect to the adequacy of the Canon City emissions budget or any other aspect of our approval of this SIP by the time the comment period closes on the proposed rule, we will publish a timely withdrawal of the direct final rule informing the public that the rule will not take effect. All public comments received will then be addressed in a subsequent final rule based on the proposed rule. EPA will not institute a second comment period on this rule. Any parties interested in commenting on this rule should do so at this time.

D. Did Colorado Follow the Proper Procedures for Adopting This Action?

The Act requires States to observe certain procedural requirements in developing implementation plans and plan revisions for submission. Section 110(a)(2) of the Act provides that each implementation plan submitted by a State must be adopted after reasonable notice and public hearing. Section 110(l) of the Act similarly provides that each revision to an implementation plan submitted by a State under the Act must be adopted by such State after reasonable notice and public hearing.

We also must determine whether a submittal is complete and therefore warrants further review and action (see section 110(k)(1) and 57 FR 13565, April 16, 1992). Our completeness criteria for SIP submittals are set out at 40 CFR part 51, appendix V. We attempt to make completeness determinations within 60 days of receiving a submission. However, a submittal is deemed complete by operation of law under section 110(k)(1)(B) if a completeness determination is not made within six months after receipt of the submission.

Copies of the proposed changes were made available to the public and the AQCC held a public hearing on October 17, 1996 to entertain public comment on the redesignation request and maintenance plan for the Canon City PM10 nonattainment area, after providing for more than 30 days of public notice. Colorado did not receive any adverse comments and therefore, the redesignation request and maintenance plan were subsequently adopted by the AQCC on October 17, 1996. The request was formally submitted to us for approval on September 22, 1997. We did not issue a completeness or an incompleteness finding for the September 22, 1997 submittal. Thus, pursuant to section 110(k)(1)(B), the submittal was deemed administratively and technically complete by operation of law on March 22, 1997 (six months after the date of receipt). We have evaluated the Governor's submittal and have determined that the State met the requirements for reasonable notice and public hearing under section 110(a)(2) of the CAA.

III. Background

To implement our 1987 revisions to the particulate matter NAAQS, on August 7, 1987 (52 FR 29383), we categorized areas of the nation into three groups based on the likelihood that protection of the PM10 NAAQS would require revisions of the existing SIP. We identified Canon City as a PM10 “Group I” area of concern, i.e., an area with a strong likelihood of violating the PM10 NAAQS and requiring a substantial SIP revision. The Canon City area was among several Group I PM10 areas, all of which were designated and classified as moderate PM10 nonattainment areas by operation of law upon enactment of the Clean Air Act Amendments of 1990 (November 15, 1990). See 56 FR 56694 at 56705-56706 (November 6, 1991).

By November 15, 1991, States containing initial moderate PM10 nonattainment areas were required to submit most elements of their PM10 SIPs. (See sections 172(c), 188, and 189 of the Act.) Some provisions, such as PM10 contingency measures required by section 172(c)(9) of the Act and nonattainment new source review (NSR) provisions, were due at later dates. In order for a nonattainment area to be redesignated to attainment, the above mentioned conditions in section 107(d)(3)(E) of the Act must be met. We approved Colorado's SIP for the Canon City PM10 nonattainment area on December 23, 1993 (58 FR 68036) and PM10 contingency measures for the area on December 14, 1994 (59 FR 64332).

On September 22, 1997, the Governor of Colorado submitted a request to redesignate the Canon City moderate PM10 nonattainment area to attainment for the 1987 PM10 NAAQS along with a maintenance plan for the area. Colorado's submittal was not approved at that time because we promulgated new standards for PM10 on September 18, 1997 and at the time of this redesignation request, we were transitioning from the 1987 PM10 standard to the new PM10 standard. Areas were to be designated under the new PM10 standard by July 2000 and for that reason we were encouraging areas to withdraw any redesignation requests for the pre-existing standard. The AQCC had voted to withdraw the Canon City redesignation request and maintenance plan due to the fact that Canon City would have been designated attainment by July 2000 under the 1997 PM10 standard. (Colorado's request for withdrawal had not yet been officially sent to us by the Governor and so we are able to process the original redesignation request and maintenance plan now.) On May 18, 1999, the United States Court of Appeals for the D.C. Circuit in American Trucking Associations, Inc. et al., v. United States Environmental Protection Agency vacated the 1997 PM10 standard. Because of the Court ruling, we are continuing to implement the pre-existing PM10 standard, and are therefore approving redesignations to qualified PM10 nonattainment areas.

IV. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective July 31, 2000 unless EPA receives adverse written comments by June 29, 2000.

Under section 307(b)(1) of the Clean Air Act, petitions for judicial review of this action must be filed in the United States Court of Appeals for the appropriate circuit by July 31, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Intergovernmental relations, Particulate Matter, Reporting and recordkeeping requirements.

40 CFR Part 81

Air pollution control.

Dated: May 18, 2000.
Jack W. McGraw,
Acting Regional Administrator, Region VIII.

40 CFR part 52, subpart TT of chapter I, title 40 is amended as follows:

PART 52—[AMENDED]

1. The authority citation for Part 52 continues to read as follows:

Authority: 42 U.S.C. 7401 et seq.

Subpart TT

2. Section 52.332 is amended by adding paragraph (i) to read as follows:

§ 52.332 Moderate PM-10 nonattainment area plans.

* * * * *

(i) On September 22, 1997, the State of Colorado submitted a maintenance plan for the Canon City PM10 nonattainment area and requested that the area be redesignated to attainment for the PM10 National Ambient Air Quality Standards. An April 24, 2000 letter from Margie Perkins, Director, Colorado Air Pollution Control Division, to Richard Long, Director, EPA Region VIII Air and Radiation Program, was sent to clarify the requirements of the contingency plan section of the Canon City maintenance plan. The redesignation request and maintenance plan satisfy all applicable requirements of the Clean Air Act.

PART 81—[AMENDED]

1. The authority citation for part 81 continues to read as follows:

Authority: 42 U.S.C. 7401 et seq.

2. In § 81.306, the table entitled “Colorado—PM-10” is amended by revising the entry under Fremont County for “Canon City Area” to read as follows:

§ 81.306 Colorado.

* * * * *

Colorado—PM-10
Designated area | Designation: Date | Designation: Type | Classification: Date | Classification: Type
* * * * * * *
Fremont County
Canon City Area | July 31, 2000 | Attainment
Township 18S—Range 70W: All of sections 21, 22, 27, 28, 33, and 34; the E½, NENW, NESW, SENW, SESW quarters of sections 20, 29, 32; and the W½ of sections 23, 26, and 35; Township 19S—Range 70W: All of sections 3, 4, 9, 10; E½, NENW, NESW, SENW, SESW quarters of sections 5 and 8; W½ of sections 2 and 11.
* * * * * * *

* * * * *

[FR Doc. 00-13332 Filed 5-26-00; 8:45 am]

BILLING CODE 6560-50-U